DEPARTMENT OF DEFENSE

GENERAL SERVICES ADMINISTRATION

NATIONAL AERONAUTICS AND SPACE ADMINISTRATION

48 CFR Parts 2, 4, 5, and 13

[FAR Case 2006-015; Docket 2006-0020; Sequence 15]

RIN: 9000-AK68

Federal Acquisition Regulation; FAR Case 2006-015, Federal Computer Network (FACNET) Architecture

AGENCIES: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to delete references to FACNET.

DATES: Interested parties should submit written comments to the FAR Secretariat on or before April 2, 2007 to be considered in the formulation of a final rule.

ADDRESSES: Submit comments identified by FAR case 2006-015 by any of the following methods:

• Federal eRulemaking Portal: http://www.regulations.gov. Search for any document by first selecting the proper document types and selecting “Federal Acquisition Regulation” as the agency of choice. At the “Keyword” prompt, type in the FAR case number (for example, FAR Case 2006-015) and click on the “Submit” button. Please include any personal and/or business information inside the document. You may also search for any document by clicking on the “Advanced search/document search” tab at the top of the screen, selecting from the agency field “Federal Acquisition Regulation”, and typing the FAR case number in the keyword field. Select the “Submit” button.

• Fax: 202-501-4067.

• Mail: General Services Administration, Regulatory Secretariat (VIR), 1800 F Street, NW, Room 4035, ATTN: Laurieann Duarte, Washington, DC 20405.

Instructions: Please submit comments only and cite FAR case 2006-015 in all correspondence related to this case. All comments received will be posted without change to http://www.regulations.gov, including any personal and/or business confidential information provided.

FOR FURTHER INFORMATION CONTACT Mr. Ernest Woodson, Procurement Analyst, at (202) 501-3775 for clarification of content. For information pertaining to status or publication schedules, contact the FAR Secretariat at (202) 501-4755. Please cite FAR case 2006-015.

SUPPLEMENTARY INFORMATION:

A. Background

In 1994, Congress enacted Pub. L. 103-355, the Federal Acquisition Streamlining Act of 1994 (FASA), which in Title IX called for the development of a Federal Acquisition Computer Network (FACNET) for automating the procurement process. FACNET was to be the preferred means for conducting Government purchases above the micro-purchase limit and below the simplified acquisition threshold. The law set a goal: the Government was to utilize FACNET to purchase more than 75 percent of its goods and services within these dollar limits by 2000.

However, in its 1997 report, Acquisition Reform: Obstacles to Implementing FACNET, GAO reviewed comments from agency electronic commerce managers about FACNET's effectiveness, its ability to handle simple procurement transactions and its management and technical obstacles. As a result, GAO urged the Office of Management and Budget, General Services Administration, DOD and other leading Federal procurement shops to devise a new integrated electronic commerce strategy based on clearer functional requirements.

In 1997, Congress enacted Pub. L. 105-85, the National Defense Authorization Act for Fiscal Year 1998, which removed the statutory goal and freed agencies to use other electronic contracting means, such as FedBizOpps. Because of implementing obstacles, the statutory changes addressed above, and an electronic business environment that has evolved since FACNET's introduction, the FAR is being revised to remove FACNET references and provide the opportunity to recognize the evolution of alternative technologies, processes, etc. that Federal agencies are using and will use to satisfy their acquisition needs without removing the use of FACNET for Federal agencies that may use the system.

This is not a significant regulatory action and, therefore, was not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., because the rule addresses the deletion of a term used to describe a system for the electronic data interchange of acquisition information between the private section and the Federal Government without removing the use of the system. Additionally, where necessary in the FAR, the term has been replaced with a more appropriate term that incorporates various electronic data interchange systems. An Initial Regulatory Flexibility Analysis has, therefore, not been performed. We invite comments from small businesses and other interested parties. The Councils will consider comments from small entities concerning the affected FAR Parts 2, 4, 5, and 13 in accordance with 5 U.S.C. 610. Interested parties must submit such comments separately and should cite 5 U.S.C. 601, et seq. (FAR case 2006-015), in correspondence.

C. Paperwork Reduction Act

The Paperwork Reduction Act does not apply because the proposed changes to the FAR do not impose information collection requirements that require the approval of the Office of Management and Budget under 44 U.S.C. 3501, et seq.

List of Subjects in 48 CFR Parts 2, 4, 5, and 13

Government procurement.

Dated: January 24, 2007.
Ralph De Stefano
Director, Contract Policy Division.

Therefore, DoD, GSA, and NASA propose amending 48 CFR parts 2, 4, 5, and 13 as set forth below:

1. The authority citation for 48 CFR parts 2, 4, 5, and 13 continues to read as follows:

Authority: 40 U.S.C. 121(c); 10 U.S.C. chapter 137; and 42 U.S.C. 2473(c).

PART 2—DEFINITIONS OF WORDS AND TERMS

2.101 [Amended]

2. Amend section 2.101 by removing from paragraph (b) the definition “Federal Acquisition Computer Network (FACNET) Architecture”.

PART 4—ADMINISTRATIVE MATTERS

4.502 [Amended]

3. Amend section 4.502 by removing from paragraph (b)(2) “, (e.g., the Federal Acquisition Computer Network (FACNET))”.

PART 5—PUBLICIZING CONTRACT ACTIONS

5.101 [Amended]

4. Amend section 5.101 by removing from paragraph (a)(2)(ii) “or Federal Acquisition Computer Network (FACNET)”.

5.102 [Amended]

5. Amend section 5.102 by removing from paragraph (a)(3) “to FACNET” and adding “using electronic commerce” in its place.

5.201 [Amended]

6. Amend section 5.201 by removing from paragraph (b)(2) “to FACNET” and adding “using electronic commerce” in its place.

5.203 [Amended]

7. Amend section 5.203 by removing from paragraph (b) “via FACNET or for which” and adding “where” in its place.

PART 13—SIMPLIFIED ACQUISITION PROCEDURES

13.104 [Amended]

8. Amend section 13.104 by removing from paragraph (b) “using either FACNET or”.

9. Amend section 13.105 by revising paragraph (a) to read as follows:

13.105 Synopsis and posting requirements.

(a) The contracting officer must comply with the public display and synopsis requirements of 5.101 and 5.203 unless an exception in 5.202 applies.

* * * * *

10. Amend section 13.106-1 by revising paragraph (f) to read as follows:

13.106-1 Soliciting competition.

* * * * *

(f) Inquiries. An agency should respond to inquiries received through any medium (including electronic commerce) if doing so would not interfere with the efficient conduct of the acquisition.

13.106-2 [Amended]

11. Amend section 13.106-2 by removing from paragraph (b)(4) “FACNET or”.

13.106-3 [Amended]

12. Amend section 13.106-3 by removing from paragraph (c) “FACNET or”.

13.307 [Amended]

13. Amend section 13.307 by removing from paragraph (b)(1) “via FACNET, electronically,” and adding “electronically” in its place.

[FR Doc. 07-439 Filed 1-31-07; 8:45 am]

BILLING CODE 6820-EP-S